DEPARTMENT OF DEFENSE

Office of the Secretary

Meeting to Review the Mitre Report

AGENCY: Special Oversight Board for Department of Defense Investigations of Gulf War Chemical and Biological Incidents, Department of Defense.

ACTION: Notice.

SUMMARY: The Board will conduct a two-day closed meeting to review the Mitre Report, a classified report dealing with how and when the intelligence community determined the type, number and location of Iraqi weapons of mass destruction during operations Desert Shield and Desert Storm. OSAGWI will also present a short classified briefing on the revised Khamisiyah plume.

DATES: May 22-23, 2000.

ADDRESSES: 1401 Wilson Boulevard, suite 401, Arlington, VA 22209 (Day 1); Old Executive Office Building, 17th Street and Pennsylvania Avenue, NW., Washington, DC 20504 (Day 2).

FOR FURTHER INFORMATION CONTACT: Contact Mr. David Edman, Special Oversight Board, 1401 Wilson Blvd, Suite 401, Arlington, VA 22209, phone (703) 696-9468, fax (703) 696-4062, or via Email at Gulfsyn@osd.pentagon.mil. Copies of the draft meeting agenda can be obtained by contacting Ms. Sandra Simpson at (703) 696-9464 or at the above fax number of above email.

SUPPLEMENTARY INFORMATION: Classified information will be discussed and reviewed throughout the two-day meeting. Therefore, the meeting is not open to the public. No government personnel other than the two briefing teams will be permitted to attend the meeting.

Dated: May 1, 2000.
L.M. Bynum,
Alternate OSD Federal Register Liaison Officer, DoD.

[FR Doc. 00-12065 Filed 5-12-00; 8:45 am]

BILLING CODE 5001-10-M